DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of October 2, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Madison County, Alabama, and Incorporated Areas
Docket No.: FEMA-B-1283
City of Huntsville | 308 Fountain Circle, Huntsville, AL 35801.
City of Madison | 100 Hughes Road, Madison, AL 35758.
Town of Gurley | 235 Walker Street, Gurley, AL 35748.
Town of New Hope | 5496 Main Drive, New Hope, AL 35760.
Town of Owens Cross Roads | 2965 Old Highway 431, Owens Cross Roads, AL 35763.
Town of Triana | Triana Town Hall, 640 6th Street, Madison, AL 35756.
Unincorporated Areas of Madison County | Madison County Engineering Building, 266-C Shields Road, Huntsville, AL 35811.
Walker County, Alabama, and Incorporated Areas
Docket No.: FEMA-B-1347
City of Carbon Hill | City Hall, 170 NW 2nd Avenue, Carbon Hill, AL 35549.
City of Cordova | City Hall, 3885 North Massachusetts Avenue, Cordova, AL 35550.
City of Dora | City Hall, 1485 Sharon Boulevard, Dora, AL 35062.
City of Jasper | City Hall, 400 West 19th Street, Jasper, AL 35501.
Town of Eldridge | Town Hall, 208 Smothers Avenue, Eldridge, AL 35554.
Town of Kansas | Town Hall, 497 Old Highway 78, Kansas, AL 35573.
Town of Nauvoo | Town Hall, 176 McDaniel Avenue, Nauvoo, AL 35578.
Town of Oakman | Town Hall, 8236 Market Street, Oakman, AL 35579.
Town of Parrish | Town Hall, 6484 Highway 269, Parrish, AL 35580.
Town of Sipsey | Town Hall, 3635 Sipsey Road, Sipsey, AL 35584.
Town of Sumiton | Town Hall, 416 State Street, Sumiton, AL 35148.
Unincorporated Areas of Walker County | Walker County Engineering Department, 1801 3rd Avenue South, Jasper, AL 35502.
Saline County, Illinois, and Incorporated Areas
Docket No.: FEMA-B-1342
City of Eldorado | City Hall, 901 4th Street, Eldorado, IL 62930.
City of Harrisburg | City Hall, 110 East Locust Street, Harrisburg, IL 62946.
Unincorporated Areas of Saline County | County Courthouse, 10 East Poplar Street, Harrisburg, IL 62946.
Village of Muddy | Village Hall, 60 Maple Street, Muddy, IL 62965.
Martin County, Indiana, and Incorporated Areas
Docket No.: FEMA-B-1304
City of Loogootee | City Municipal Building, 401 John F. Kennedy Avenue, Loogootee, IN 47553.
Town of Shoals | Town Hall, 201 Water Street, Shoals, IN 47581.
Unincorporated Areas of Martin County | Martin County Courthouse, 111 South Main Street, Shoals, IN 47581.
Morgan County, Indiana, and Incorporated Areas
Docket No.: FEMA-B-1315
City of Martinsville | City Hall, 59 South Jefferson Street, Martinsville, IN 46151.
Town of Brooklyn | Town Hall, 4 North Main Street, Brooklyn, IN 46111.
Town of Mooresville | Town Hall, 4 East Harrison Street, Mooresville, IN 46158.
Town of Morgantown | Town Hall, 120 West Washington Street, Morgantown, IN 46160.
Town of Paragon | Town Hall, 209 West Union Street, Paragon, IN 46166.
Unincorporated Areas of Morgan County | Morgan County Administration Building, 180 South Main Street, Martinsville, IN 46151.
Monroe County, Michigan (All Jurisdictions)
Docket No.: FEMA-B-1329
Charter Township of Berlin | 8000 Swan View Road, Newport, MI 48166.
Charter Township of Frenchtown | 2744 Vivian Road, Monroe, MI 48162.
Charter Township of Monroe | 4925 East Dunbar Road, Monroe, MI 48161.
City of Luna Pier | 4357 Buckeye Street, Luna Pier, MI 48157.
City of Monroe | 120 East First Street, Monroe, MI 48161.
City of Petersburg | 24 East Center Street, Petersburg, MI 49270.
Township of Ash | 1677 Ready Road, Carleton, MI 48117.
Township of Bedford | 8100 Jackman Road, Temperance, MI 48182.
Township of Dundee | 179 Main Street, Dundee, MI 48131.
Township of Erie | 2065 Erie Road, Erie, MI 48133.
Township of Ida | 3016 Lewis Avenue, Ida, MI 48140.
Township of Lasalle | 4111 LaPlaisance Road, LaSalle, MI 48145.
Township of London | 13613 Tuttlehill Road, Milan, MI 48160.
Township of Milan | 16444 Cone Road, Milan, MI 48160.
Township of Raisinville | 96 Ida-Maybee Road, Monroe, MI 48161.
Township of Summerfield | 26 Saline Street, Petersburg, MI 49270.
Township of Whiteford | 8000 Yankee Road, Suite 100, Ottawa Lake, MI 49267.
Village of Dundee | 350 West Monroe Street, Dundee, MI 48131.
Village of Estral Beach | 7194 Lakeview Boulevard, Newport, MI 48166.
Village of South Rockwood | 5676 Carleton-Rockwood Road, South Rockwood, MI 48179.
Lancaster County, Virginia, and Incorporated Areas
Docket No.: FEMA-B-1343
Town of Irvington | Town Hall Office, 235 Steamboat Road, Irvington, VA 22480.
Town of Kilmarnock | Town Hall Office, 1 North Main Street, Kilmarnock, VA 22482.
Town of White Stone | Town Hall Office, 433 Rappahannock Drive, White Stone, VA 22578.
Unincorporated Areas of Lancaster County | Lancaster County Courthouse, 8311 Mary Ball Road, Lancaster, VA 22503.

(Catalog of Federal Domestic Assistance No. 97.022, “Flood Insurance.”)

Dated: September 29, 2014.
Roy E. Wright,
Deputy Associate Administrator for Mitigation, Department of Homeland Security, Federal Emergency Management Agency.

[FR Doc. 2014-24410 Filed 10-14-14; 8:45 am]

BILLING CODE 9110-12-P